DEPARTMENT OF THE INTERIOR

Bureau of Indian Affairs

Indian Gaming

AGENCY: Bureau of Indian Affairs, Interior.

ACTION: Notice of Deemed Approved Amended Tribal-State Class III Gaming Compact taking effect.

SUMMARY: This notice publishes the Deemed Approved Amendment to the Tribal-State Compact between the State of California and the Coyote Valley Band of Pomo Indians.

DATES: Effective Date: December 28, 2012.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2701 et seq., the Secretary of the Interior shall publish in the Federal Register notice of approved Tribal-State compacts for the purpose of engaging in Class III gaming activities on Indian lands. On October 31, 2012, the Coyote Valley Band of Pomo Indians and the State of California submitted Amendment I to the Class III compact approved on December 20, 2004. The Amendment increases the number of authorized gaming facilities to two, but only if the second gaming facility operates 25 or fewer gaming devices and reduces the total number of authorized gaming devices the Tribe is permitted to operate from 2,000 to no more than 1,250. Under the Amendment, if the Tribe, the County of Mendocino and others renegotiate various agreements to include certain terms, the Tribe may reduce its payments to the State on its first 350 gaming devices to zero for a period of up to six years, and thereafter the Tribe will pay a reduced rate for 251 or more gaming devices for the remaining term of the Amendment. The Amendment extends the term of the compact until December 31, 2032. The Amendment is considered to have been approved but only to the extent that the Amendment is consistent with the provisions of the IGRA.

The Assistant Secretary—Indian Affairs, Department of the Interior, through his delegated authority, is publishing notice that the Amendment to the Tribal-State Compact between the State of California and the Coyote Valley Band of Pomo Indians is now in effect.

Dated: December 20, 2012.
Kevin K. Washburn,
Assistant Secretary—Indian Affairs.

[FR Doc. 2012-31181 Filed 12-27-12; 8:45 am]

BILLING CODE 4310-4N-P